DEPARTMENT OF TRANSPORTATION

Surface Transportation Board

[STB Ex Parte No. 646]

Rail Rate Challenges in Small Cases

AGENCY: Surface Transportation Board, DOT.

ACTION: Amended notice of public hearing.

SUMMARY: The Surface Transportation Board (Board) is rescheduling the public hearing in this matter to April 22, 2003.¹ New dates for filing notices of intent to participate and for filing written testimony are established.

¹ The hearing had originally been set for April 16, 2003.

DATES: The public hearing will take place on Tuesday, April 22, 2003, at 10 a.m. Any person wishing to speak at the hearing should file with the Board a written notice of intent to participate, and should indicate a requested time allotment, as soon as possible but no later than April 11, 2003. Each speaker should also file with the Board his/her written testimony by April 16, 2003.

ADDRESSES: The public hearing will take place in the 7th floor hearing room at the Board's offices in the Mercury Building, 1925 K Street, NW., Washington, DC. An original and 10 copies of all notices of intent to participate and testimony should refer to STB Ex Parte No. 646, and should be sent to: Surface Transportation Board, Attn: STB Ex Parte No. 646, 1925 K Street, NW., Washington, DC 20423-0001.

FOR FURTHER INFORMATION, CONTACT: Beryl Gordon, (202) 565-1616. [Federal Information Relay Service (FIRS) (Hearing Impaired): (800) 877-8339.]

SUPPLEMENTARY INFORMATION: The public hearing in this matter is for the purpose of providing a forum for the expression of views and proposals by rail shippers, railroads, and other interested persons, regarding rail rate challenges in small cases to be considered by the Board. Decisions and notices of the Board, including this notice and the prior notice in this matter, are available on the Board's Web site at http://www.stb.dot.gov.

This action will not significantly affect either the quality of the human environment or the conservation of energy resources.

Dated: April 1, 2003.
Vernon A. Williams,
Secretary.

[FR Doc. 03-8393 Filed 4-4-03; 8:45 am]

BILLING CODE 4915-00-P